DEPARTMENT OF ENERGY

Federal Energy Regulatory Commission

Combined Notice of Filings

Take notice that the Commission has received the following Natural Gas Pipeline Rate and Refund Report filings:

Filings Instituting Proceedings

Docket Numbers: RP19-1056-001.

Applicants: Boardwalk Storage Company, LLC.

Description: Compliance filing Compliance Filing in Docket No. RP19-1056-000 to be effective 8/1/2019.

Filed Date: 7/31/19.

Accession Number: 20190731-5031.

Comments Due: 5 p.m. ET 8/12/19.

Docket Numbers: RP19-1057-001.

Applicants: Texas Gas Transmission, LLC.

Description: Compliance filing Compliance Filing in Docket No. RP19-1057-000 to be effective 8/1/2019.

Filed Date: 7/31/19.

Accession Number: 20190731-5033.

Comments Due: 5 p.m. ET 8/12/19.

Docket Numbers: RP19-1062-001.

Applicants: Gulf South Pipeline Company, LP.

Description: Compliance filing Compliance Filing in Docket No. RP19-1062-000 to be effective 8/1/2019.

Filed Date: 7/31/19.

Accession Number: 20190731-5029.

Comments Due: 5 p.m. ET 8/12/19.

Docket Numbers: RP19-1072-001.

Applicants: Gulf Crossing Pipeline Company LLC.

Description: Compliance filing Compliance Filing in Docket No. RP19-1072-000 to be effective 8/1/2019.

Filed Date: 7/31/19.

Accession Number: 20190731-5030.

Comments Due: 5 p.m. ET 8/12/19.

Docket Numbers: RP19-1411-000.

Applicants: NEXUS Gas Transmission, LLC.

Description: § 4(d) Rate Filing: Negotiated Rates—Columbia Gas 860005 Aug 1 releases to be effective 8/1/2019.

Filed Date: 7/31/19.

Accession Number: 20190731-5002.

Comments Due: 5 p.m. ET 8/12/19.

Docket Numbers: RP19-1412-000.

Applicants: Great Lakes Gas Transmission Limited Partnership.

Description: Compliance filing Semi-Annual Transporter's Use Report July 2019.

Filed Date: 7/31/19.

Accession Number: 20190731-5004.

Comments Due: 5 p.m. ET 8/12/19.

Docket Numbers: RP19-1413-000.

Applicants: Equitrans, L.P.

Description: § 4(d) Rate Filing: Negotiable Provisions to be effective 8/31/2019.

Filed Date: 7/31/19.

Accession Number: 20190731-5024.

Comments Due: 5 p.m. ET 8/12/19.

Docket Numbers: RP19-1414-000.

Applicants: Florida Gas Transmission Company, LLC.

Description: § 4(d) Rate Filing: Negotiated Rate & Exhibit B Update (FPL Sanford) to be effective 8/1/2019.

Filed Date: 7/31/19.

Accession Number: 20190731-5025.

Comments Due: 5 p.m. ET 8/12/19.

Docket Numbers: RP19-1415-000.

Applicants: Gulf South Pipeline Company, LP.

Description: § 4(d) Rate Filing: Cap Rel Neg Rate Agmts (Atlanta Gas 8438 to various shippers eff 8-1-2019) to be effective 8/1/2019.

Filed Date: 7/31/19.

Accession Number: 20190731-5026.

Comments Due: 5 p.m. ET 8/12/19.

Docket Numbers: RP19-1416-000.

Applicants: Gulf South Pipeline Company, LP.

Description: § 4(d) Rate Filing: Cap Rel Neg Rate Agmts (Aethon 37657, 50488 to Scona 51400, 51393) to be effective 8/1/2019.

Filed Date: 7/31/19.

Accession Number: 20190731-5027.

Comments Due: 5 p.m. ET 8/12/19.

Docket Numbers: RP19-1417-000.

Applicants: Ruby Pipeline, L.L.C.

Description: § 4(d) Rate Filing: FLU and EPC Recomputation Filing to be effective 9/1/2019.

Filed Date: 7/31/19.

Accession Number: 20190731-5042.

Comments Due: 5 p.m. ET 8/12/19.

Docket Numbers: RP19-1418-000.

Applicants: Natural Gas Pipeline Company of America.

Description: § 4(d) Rate Filing: Amendment to Negotiated Rate Agreement-Macquarie Energy to be effective 8/1/2019.

Filed Date: 7/31/19.

Accession Number: 20190731-5045.

Comments Due: 5 p.m. ET 8/12/19.

Docket Numbers: RP19-1419-000.

Applicants: Dauphin Island Gathering Partners.

Description: § 4(d) Rate Filing: Negotiated Rate Filing Chevron 7-31-2019 to be effective 8/1/2019.

Filed Date: 7/31/19.

Accession Number: 20190731-5046.

Comments Due: 5 p.m. ET 8/12/19.

Docket Numbers: RP19-1420-000.

Applicants: Florida Southeast Connection, LLC.

Description: Compliance filing Order No. 587-Y Compliance Filing to be effective 7/31/2019.

Filed Date: 7/31/19.

Accession Number: 20190731-5058.

Comments Due: 5 p.m. ET 8/12/19.

Docket Numbers: RP19-1421-000.

Applicants: Transcontinental Gas Pipe Line Company, LLC.

Description: Compliance filing Flow Through of Dominion Penalty Sharing 2019.

Filed Date: 7/31/19.

Accession Number: 20190731-5059.

Comments Due: 5 p.m. ET 8/12/19.

Docket Numbers: RP19-1422-000.

Applicants: Algonquin Gas Transmission, LLC.

Description: § 4(d) Rate Filing: Negotiated Rates—NStar release to BP 799653 eff 8-1-19 to be effective 8/1/2019.

Filed Date: 7/31/19.

Accession Number: 20190731-5060.

Comments Due: 5 p.m. ET 8/12/19.

Docket Numbers: RP19-1423-000.

Applicants: Wyoming Interstate Company, L.L.C.

Description: § 4(d) Rate Filing: Negotiated Rate Agreement Filing (#215882-FTWIC Castleton Commodities) to be effective 8/1/2019.

Filed Date: 7/31/19.

Accession Number: 20190731-5061.

Comments Due: 5 p.m. ET 8/12/19.

Docket Numbers: RP19-1424-000.

Applicants: Kern River Gas Transmission Company.

Description: § 4(d) Rate Filing: 2019 Concord Amendment to be effective 8/1/2019.

Filed Date: 7/31/19.

Accession Number: 20190731-5063.

Comments Due: 5 p.m. ET 8/12/19.

Docket Numbers: RP19-1425-000.

Applicants: Wyoming Interstate Company, L.L.C.

Description: § 4(d) Rate Filing: Fuel and L&U Reimbursement Percentage Update to be effective 9/1/2019.

Filed Date: 7/31/19.

Accession Number: 20190731-5064.

Comments Due: 5 p.m. ET 8/12/19.

Docket Numbers: RP19-1426-000.

Applicants: National Fuel Gas Supply Corporation.

Description: § 4(d) Rate Filing: National Fuel Rate Case (eFiled 07/31/19) to be effective 9/1/2019.

Filed Date: 7/31/19.

Accession Number: 20190731-5067.

Comments Due: 5 p.m. ET 8/12/19.

Docket Numbers: RP19-1427-000.

Applicants: Gulf Crossing Pipeline Company LLC.

Description: § 4(d) Rate Filing: Remove Expired and Terminated Agreements from Tariff to be effective 8/1/2019.

Filed Date: 7/31/19.

Accession Number: 20190731-5076.

Comments Due: 5 p.m. ET 8/12/19.

Docket Numbers: RP19-1428-000.

Applicants: Dominion Energy Transmission, Inc.

Description: § 4(d) Rate Filing: DETI—July 31, 2019 Gas Processing Provisions to be effective 9/1/2019.

Filed Date: 7/31/19.

Accession Number: 20190731-5103.

Comments Due: 5 p.m. ET 8/12/19.

Docket Numbers: RP19-1429-000.

Applicants: Rockies Express Pipeline LLC.

Description: § 4(d) Rate Filing: Neg Rate 2019-07-31 Six One Commodities to be effective 8/1/2019.

Filed Date: 7/31/19.

Accession Number: 20190731-5165.

Comments Due: 5 p.m. ET 8/12/19.

Docket Numbers: RP19-1430-000.

Applicants: ETC Tiger Pipeline, LLC.

Description: § 4(d) Rate Filing: Assignment of Petrohawk Agreement to BP Energy to be effective 8/1/2019.

Filed Date: 7/31/19.

Accession Number: 20190731-5184.

Comments Due: 5 p.m. ET 8/12/19.

Docket Numbers: RP19-1431-000.

Applicants: Trailblazer Pipeline Company LLC.

Description: § 4(d) Rate Filing: Neg Rate 2019-07-31-19 5 sharing Ks to be effective 8/1/2019.

Filed Date: 7/31/19.

Accession Number: 20190731-5200.

Comments Due: 5 p.m. ET 8/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2019.
Kimberly D. Bose,
Secretary.

[FR Doc. 2019-16851 Filed 8-6-19; 8:45 am]

BILLING CODE 6717-01-P